DEPARTMENT OF COMMERCE

National Oceanic and Atmospheric Administration

RIN 0648-XC058

Endangered Species; File No. 16803

AGENCY: National Marine Fisheries Service (NMFS), National Oceanic and Atmospheric Administration (NOAA), Commerce.

ACTION: Notice; receipt of application.

SUMMARY: Notice is hereby given that NMFS Southwest Fisheries Science Center (SWFSC), 3333 N. Torrey Pines Ct., La Jolla, CA 92037, [Responsible Party: Lisa Ballance, Ph.D.], has applied in due form for a permit to take green (Chelonia mydas), loggerhead (Caretta caretta), and olive ridley (Lepidochelys olivacea) sea turtles for scientific research.

DATES: Written, telefaxed, or email comments must be received on or before July 11, 2012.

ADDRESSES: The application and related documents are available for review by selecting “Records Open for Public Comment” from the Features box on the Applications and Permits for Protected Species (APPS) home page, https://apps.nmfs.noaa.gov, and then selecting File No. 16803 from the list of available applications.

These documents are also available upon written request or by appointment in the following offices:

Permits and Conservation Division, Office of Protected Resources, NMFS, 1315 East-West Highway, Room 13705, Silver Spring, MD 20910; phone (301) 427-8401; fax (301) 713-0376; and Southwest Region, NMFS, 501 West Ocean Blvd., Suite 4200, Long Beach, CA 90802-4213; phone (562) 980-4001; fax (562) 980-4018.

Written comments on this application should be submitted to the Chief, Permits and Conservation Division

• by email to NMFS.Pr1Comments@noaa.gov (include the File No. in the subject line of the email),

• by facsimile to (301) 713-0376, or

• at the address listed above.

Those individuals requesting a public hearing should submit a written request to the Chief, Permits and Conservation Division at the address listed above. The request should set forth the specific reasons why a hearing on this application would be appropriate.

FOR FURTHER INFORMATION CONTACT: Amy Hapeman or Colette Cairns, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The SWFSC proposes to continue long-term monitoring of the status of sea turtles in San Diego Bay, California. The purpose of the work is to determine their abundance, size ranges, growth, sex ratio, health status, diving behavior, local movements, habitat use, and migration routes. Up to 50 green, five olive ridley, and five loggerhead sea turtles would be captured annually by entanglement netting and have the following procedures performed before release: photography/video; flipper tagging and passive integrated transponder tagging; ultrasound; morphometrics; tetracycline injection; fecal, scute and tissue sampling; cloacal and oral swabbing; lavage; and up two transmitter attachments. Animals with transmitters may be tracked by vessel after release. The permit would be valid for five years from the date of issuance.

Dated: June 5, 2012.
P. Michael Payne,
Chief, Permits and Conservation Division, Office of Protected Resources, National Marine Fisheries Service.

[FR Doc. 2012-14175 Filed 6-8-12; 8:45 am]

BILLING CODE 3510-22-P